DEPARTMENT OF HEALTH AND HUMAN SERVICES

Centers for Disease Control and Prevention

Disease, Disability, and Injury Prevention and Control Special Emphasis Panel: Capacity Building Assistance (CBA) To Improve the Delivery and Effectiveness of Human Immunodeficiency Virus (HIV) Prevention Services for High-Risk and/or Racial/Ethnicity Minority Populations, Program Announcement Number PS09-906, Initial Review

Location: Doubletree Hotel Atlanta-Buckhead, 3342 Peachtree Road, NE., Atlanta, Georgia 30326. Telephone: (404) 231-1234.

Correction: This notice was published in the Federal Register on July 13, 2009, Volume 74, Number 132, page 33450. The original notice was published with an incorrect location.

Contact Person for More Information: Monica Farmer, M.Ed., Public Health Analyst, Strategic Science and Program Unit, Office of the Director, Coordinating Center for Infectious Diseases, CDC, 1600 Clifton Road NE., Mailstop E-60, Atlanta, GA 30333. Telephone (404) 498-2277.

The Director, Management Analysis and Services Office, has been delegated the authority to sign Federal Register notices pertaining to announcements of meetings and other committee management activities, for both CDC and the Agency for Toxic Substances and Disease Registry.

Dated: July 20, 2009.
Elaine L. Baker,
Director, Management Analysis and Services Office Centers for Disease Control and Prevention.

[FR Doc. E9-17796 Filed 7-24-09; 8:45 am]

BILLING CODE 4163-18-P